NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 30, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001,

E-mail: requestschedule@nara.gov, FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Homeland Security, Transportation Security Administration (N1-560-04-7, 11 items, 7 temporary items). Records accumulated in the Office of International Affairs, including copies of correspondence relating to international aviation matters, foreign assistance country files, background materials relating to international agreements, routine foreign airport assessments, and related records associated with activities involving foreign countries and international air carriers. Also included are electronic copies of records created using electronic mail and word processing. Proposed for permanent retention are recordkeeping copies of files relating to the advisement and policy coordination of international transportation security issues and foreign policy matters, final agreements and technical analysis, and foreign airport assessments resulting in negative actions.

2. Department of Homeland Security, U.S. Citizenship and Immigration Service (N1-566-05-1, 4 items, 4 temporary items). Inputs, outputs, master files, and documentation associated with an electronic information system used to track and control administrative inquiries, criminal referrals, and national security cases related to fraudulent immigration claims.

3. Department of Homeland Security, U.S. Coast Guard (N1-26-05-1, 11 items, 9 temporary items). Inputs, master files, outputs, and system documentation associated with an electronic system used to manage the training activities of Coast Guard personnel, course development, funding, and instruction. Also included are electronic copies of records created using electronic mail and word processing. Proposed for permanent retention are unique or significant training and course development materials, and related system documentation.

4. Department of Homeland Security, U.S. Coast Guard (N1-26-05-11, 6 items, 6 temporary items). Inputs, master files, outputs, system documentation, and electronic mail and word processing copies associated with an electronic system used to process, screen, and store data relating to ship arrival and departure notifications at U.S. seaports.

5. Department of Homeland Security, U.S. Coast Guard (N1-26-05-20, 3 items, 3 temporary items). Electronic mail and word processing copies associated with routine medical and dentistry correspondence. This schedule also extends the retention period for recordkeeping copies of this correspondence, which were previously approved for disposal.

6. Department of Homeland Security, U.S. Coast Guard (N1-26-05-23, 5 items, 5 temporary items). Electronic mail and word processing copies associated with laboratory and immunology tests and logs, and prosthetic case files. This schedule also extends the retention period for recordkeeping copies of these files, which were previously approved for disposal.

7. Department of the Interior, Office of the Secretary (N1-48-05-4, 11 items, 2 temporary items). Photographic records, including inputs associated with a digital imaging system and routine photographs. Proposed for permanent retention are recordkeeping copies of historically significant photographs, including a master file of digital images from historically significant shoots with related system documentation and outputs. Select photographs of senior officials and logbooks of photography sessions are also proposed as permanent.

8. Department of the Interior, Office of the Secretary (N1-48-05-5, 9 items, 9 temporary items). Records associated with legal discovery and document production. Included are copies of agency documents collected from bureaus and offices in response to congressional committee and subcommittee requests, and court subpoenas. Also included are guidance memoranda and coordination plans, adequacy of search certifications, and electronic copies of records created using electronic mail and word processing. This schedule authorizes the agency to apply the proposed disposition instructions to any recordkeeping medium.

9. Department of the Interior, Office of the Secretary (N1-48-05-7, 16 items, 9 temporary items). Records of the Office of Communications, including drafts and clearance files of public information releases and speeches of senior officials, Web versions of the employee news magazine and magazine planning and publication files, press clippings in hardcopy format, and electronic copies of records created using electronic mail and word processing. Proposed for permanent retention are recordkeeping copies of public information releases and speeches in hardcopy format and electronic format as posted on the agency's Web site. This schedule modifies descriptions of these records previously approved as permanent. Also proposed as permanent are recordkeeping copies of the employee news magazine in hardcopy and electronic formats, and daily compilations of news articles and editorials in electronic format.

10. Department of the Interior, Office of the Secretary (N1-48-05-8, 3 items, 3 temporary items). Records relating to the administration of the agency's public web site and electronic recordkeeping copies of Web site content, not including English-language versions of speeches and public information releases, which are proposed for permanent retention in a separate schedule. Also included are electronic copies of records created using electronic mail and word processing.

11. Department of State, Bureau of Diplomatic Security (N1-59-06-4, 1 item, 1 temporary item). Hard copies of notification messages relating to travel by foreign officials in the United States.

12. Department of Transportation, Bureau of Transportation Statistics (N1-570-04-21, 4 items, 4 temporary items). Records relating to requests from air carriers for compensation resulting from business losses after the events of September 11, 2001. Included are such records as applications for compensation, correspondence, working papers, and other documentation associated with the calculation of compensation. Also included are electronic copies of records created using electronic mail and word processing. This schedule authorizes the agency to apply the proposed disposition instructions to any recordkeeping medium.

13. Department of Transportation, Bureau of Transportation Statistics (N1-570-05-3, 10 items, 10 temporary items). Records of the Research and Innovative Technology Administration consisting of patent, trademark, and copyright case files. Also included are electronic copies of records using electronic mail and word processing. The schedule authorizes the agency to apply the proposed disposition instructions to any recordkeeping medium.

14. Department of Transportation, Federal Motor Carrier Safety Administration (N1-557-05-5, 26 items, 24 temporary items). Records accumulated by the Office of Management Information and Services, including budget background records, chronological files, directives files, property and supplies files, and employee safety program files. Also included are electronic copies of records created using electronic mail and word processing. Proposed for permanent retention are recordkeeping copies of internal directives relating to significant policy issues. This schedule authorizes the agency to apply the proposed disposition instructions to any recordkeeping medium.

15. Department of the Treasury, Bureau of Public Debt (N1-53-06-1, 4 items, 4 temporary items). Activity analysis records of the Financial Management Division consisting of spreadsheets of financial data detailing the costs of Bureau services. Also included are electronic copies of records created using electronic mail or word processing.

16. Department of the Treasury, Financial Management Service (N1-425-06-1, 4 items, 4 temporary items). Project files relating to terminated, obsolete, or superseded electronic information systems, and records relating to the planning, preparing, and conducting of electronic information system training programs. Also included are electronic copies of records created using electronic mail or word processing.

17. Department of the Treasury, Internal Revenue Service (N1-58-05-2, 58 items, 56 temporary items). Records of the Division of Government Liaison and Disclosure relating to controlling access to taxpayer information. Included are disclosure accounting forms, disclosure certification documents, government information exchange agreements, requests for information, and an electronic tracking system for disclosure cases. Also included are electronic copies created using electronic mail and word processing applications. Proposed for permanent retention are Congressional reports and related background files. This schedule authorizes the agency to apply the proposed disposition instructions to any recordkeeping medium.

18. Environmental Protection Agency, Office of the Chief Financial Officer (N1-412-05-10, 5 items, 5 temporary items). Inputs, outputs, master files, documentation, and software associated with an administrative data warehouse consisting of read-only copies of data from various agency financial management systems.

19. Environmental Protection Agency, Office of Prevention, Pesticides, and Toxic Substances (N1-412-05-7, 6 items, 4 temporary items). Inputs, outputs, and software associated with an electronic system used to provide statistics on pesticide accidents involving human, animal, and environmental injuries. Master files and supporting documentation are proposed for permanent retention.

20. District Courts of the United States (N1-21-06-1, 3 items, 3 temporary items). Electronic and paper inputs into the Case Management and Electronic Case Filing System. Case files in electronic and paper form are covered by previously approved schedules.

Dated: December 8, 2005.
Michael J. Kurtz,
Assistant Archivist for Records Services—Washington, DC.

[FR Doc. E5-7323 Filed 12-13-05; 8:45 am]

BILLING CODE 7515-01-P